SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) federal agencies to publish a notice in the Federal Register concerning each proposed collection of information before submission to OMB, and to allow 60 days for public comment in response to the notice. This notice complies with that requirement.

DATES: Submit comments on or before July 25, 2022.

ADDRESSES: Send all comments to, Roman Ivey, Program Analyst, Office of Policy Planning and Liaison, Small Business Administration, at roman.ivey@sba.gov, (202) 401-1420.

FOR FURTHER INFORMATION CONTACT: Roman Ivey, Program Analyst, Office of Policy Planning and Liaison, Small Business Administration, at roman.ivey@sba.gov, (202) 401-1420.

SUPPLEMENTARY INFORMATION: Small business concerns (SBCs) that are awarded set-aside or sole source contracts are limited in their ability to subcontract to other than small business concerns by the limitation on subcontracting (LOS) clauses set forth in their contracts. To help determine whether theses SBCs are in compliance with any LOS clauses, Contracting Officers may require the SBCs to submit information evidencing their compliance.

OMB Control Number: 3245-0400.

Title: “Limitations on Subcontracting Reporting”.

Description of Respondents: Small business concerns.

Form Number: N/A.

Annual Responses: 18,500.

Annual Burden: 18,500.

Curtis Rich,
Agency Clearance Officer.

[FR Doc. 2022-11076 Filed 5-23-22; 8:45 am]

BILLING CODE 8026-09-P